FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 9, 2018.

A. Federal Reserve Bank of St. Louis (David L. Hubbard, Senior Manager) P.O. Box 442, St. Louis, Missouri 63166-2034. Comments can also be sent electronically to Comments.applications@stls.frb.org:

1. Donald G. Soffer 1995 Decanted Family Trust and Allen David Soffer, of St. Louis, Missouri, as Trustee of such trust; KMB Holdings Irrevocable Trust and James Frederick Barton, III, of Marco Island, Florida, and Ann Barton Crowe, of St. Louis, Missouri, both as Trustees of such trust; JFB Holdings Irrevocable Trust and Karen M. Barton, of Marco Island, Florida, and Ann Barton Crowe, of St. Louis, Missouri, both as Trustees of such trust; Brenda Sue Plocher Revocable Trust and Brenda Sue Plocher, of Highland, Illinois, as Trustee of such trust; Liebig Joint Revocable Trust and J. Travis Liebig, of St. Louis, Missouri, and Kristen M. Liebig, of St. Louis, Missouri, both as Trustees of such trust; Bernadette N. Barton 2006 Trust and James Frederick Barton, III, of Marco Island, Florida, Anna L. Dunlap, of St. Louis, Missouri, and Stephanie J. Opel, of St. Louis, Missouri, all as Trustees of such trust; Christopher W. Byron, of Edwardsville, Illinois; and Kathleen A. Byron, of Edwardsville, Illinois; The Crowe Joint Revocable Bank Stock Trust and Vance Crowe, of St. Louis, Missouri, and Ann Barton Crowe, of St. Louis, Missouri, both as Trustees of such trust; Chaos Holdings, LLC, of St. Louis, Missouri; the John J. Kang Revocable Trust and John J. Kang, of St. Louis, Missouri, as Trustee of such trust; Jeffrey A. Counton, of Maryville, Illinois; the Jessica H. Hoagland Revocable Trust, and Jessica H. Hoagland, of St. Louis, Missouri, and Craig C. Hoagland, of St. Louis, Missouri, both as Co-Trustees of such trust; Debra Marie Liebig, of Quincy, Illinois; Mishaal M. Taqui, of St. Louis, Missouri; Paul Meyers, of Chesterfield, Missouri, and Chasity Meyers, of Chesterfield, Missouri (collectively the “Liebig Group”); to acquire voting shares of St. Louis Bancshares, Inc., Town and Country, Missouri, and thereby acquire shares of St. Louis Bank, Town and Country, Missouri.

Board of Governors of the Federal Reserve System, June 18, 2018.
Ann Misback,
Secretary of the Board.

[FR Doc. 2018-13326 Filed 6-20-18; 8:45 am]

BILLING CODE P